DEPARTMENT OF LABOR

Employment and Training Administration

[NAFTA—7651]

J.C. Apparel, Sebastopol, Mississippi; Notice of Termination of Investigation

Pursuant to Title V of the North American Free Trade Agreement Implementation Act (Pub. L. 103-182) concerning transitional adjustment assistance, hereinafter called NAFTA-TAA, and in accordance with section 250(a), Subchapter 2, Title II, of the Trade Act of 1974, an investigation was initiated on November 1, 2002, in response to a petition dated October 25, 2002, filed by a company official on behalf of workers at J.C. Apparel, Inc., Sebastopol, Mississippi.

The petitioner has requested that the petition be withdrawn. Consequently, further investigation in this case would serve no purpose, and the investigation has been terminated.

Signed in Washington, DC, this 20th day of November 2002.
Richard Church,
Certifying Officer, Division of Trade Adjustment Assistance.

[FR Doc. 02-31296 Filed 12-11-02; 8:45 am]

BILLING CODE 4510-30-P